COMMODITY FUTURES TRADING COMMISSION

Reestablishment of the Agricultural Advisory Committee

AGENCY: Commodity Futures Trading Commission.

ACTION: Notice of Agricultural Advisory Committee reestablishment.

SUMMARY: The Commodity Futures Trading Commission (Commission) is publishing this notice to announce the reestablishment of the Agricultural Advisory Committee (AAC). The Commission has determined that reestablishment of the AAC is necessary and in the public's interest. No earlier than fifteen (15) days following the date of the publication of this notice, the AAC Charter will be filed with the Commission; the Senate Committee on Agriculture, Nutrition and Forestry; the House Committee on Agriculture; the Library of Congress; and the General Services Administration's Committee Management Secretariat.

ADDRESSES: Written comments should be submitted to the attention of Christopher Kirkpatrick, Secretary of the Commission, either electronically to secretary@cftc.gov or by mail to Commodity Futures Trading Commission, Three Lafayette Centre, 1155 21st Street NW., Washington, DC 20581. Please submit your comments using only one method and identify that you are commenting on the AAC's reestablishment.

FOR FURTHER INFORMATION CONTACT: Christa Lachenmayr, AAC Designated Federal Officer, at 202-418-5252.

SUPPLEMENTARY INFORMATION: In accordance with the Federal Advisory Committee Act (FACA), 5 U.S. C. App. II, the Commission is publishing this notice to announce the reestablishment of the AAC. The Commission has determined that the reestablishment of the AAC is necessary and in the public interest. The objectives and scope of activities of the AAC are to conduct public meetings and submit reports and recommendations to assist the Commission in assessing issues affecting agricultural producers, processors, lenders and others interested in or affected by the agricultural commodity, futures, and swaps markets. Meetings of the AAC are open to the public.

The AAC will operate for two years from the date of reestablishment unless, before the expiration of that time period, its charter is renewed in accordance with section 14(b)(1) of the FACA, or the Commission directs that the AAC terminate on an earlier date. A copy of the AAC reestablishment charter will be filed with the Commission; the Senate Committee on Agriculture, Nutrition and Forestry; the House Committee on Agriculture; the Library of Congress; and the General Services Administration's Committee Management Secretariat. A copy of the reestablishment charter will be posted on the Commission's Web site at www.cftc.gov.

Issued in Washington, DC, on September 4, 2014, by the Commission.
Christopher J. Kirkpatrick,
Secretary of the Commission.

[FR Doc. 2014-21410 Filed 9-8-14; 8:45 am]

BILLING CODE 6351-01-P